DEPARTMENT OF DEFENSE

Department of the Army; Corps of Engineers

Board on Coastal Engineering Research

AGENCY: Department of the Army, DoD.

ACTION: Notice of meeting.

SUMMARY: In accordance with Section 10(a)(2) of the Federal Advisory Committee Act (Pub. L. 92-463), announcement is made of the following committee meeting:

Name of Committee: Board on Coastal Engineering Research.

Date of Meeting: July 26-28, 2011.

Place: Crowne Jewel Ballroom, Sheraton At The Falls, 300 Third Street, Niagara Falls, NY 14303.

Time: 8 a.m. to 3:15 p.m. (July 26, 2011); 8 a.m. to 5:30 p.m. (July 27, 2011); 7:30 a.m. to 11:30 p.m. (July 28, 2011).

FOR FURTHER INFORMATION CONTACT: Inquiries and notice of intent to attend the meeting may be addressed to COL Kevin J. Wilson, Executive Secretary, U.S. Army Engineer Research and Development Center, Waterways Experiment Station, 3909 Halls Ferry Road, Vicksburg, MS 39180-6199.

SUPPLEMENTARY INFORMATION: The Board provides broad policy guidance and review of plans and fund requirements for the conduct of research and development of research projects in consonance with the needs of the coastal engineering field and the objectives of the Chief of Engineers.

Proposed Agenda: The goal of the meeting is to review the coastal engineering challenges within the Great Lakes region, as well as nationally, and identify the research that is needed to help the Districts meet these challenges. Panel presentations dealing with Coastal and Navigation Structures and Asset Management on Tuesday, July 26, will include an Introduction; Asset Management Processes for Coastal Navigation Structures; Coastal Navigation Structures Data Management and Visualization; Navigation Structure Condition Assessment in the Great Lakes: Federal, State, Local, and Private Perspectives; Developments in Asset Management Systems; Future Navigation Needs; Systems Approach to Risk and Lifecycle Management of Coastal Navigation Infrastructure; and Research and Development Needs and Plans. There will be an optional field trip boat Tuesday evening.

On Wednesday morning, July 27, 2011, panel presentations dealing with Regional Sediment Management (RSM) will include an Introduction; Future RSM Challenges in the Corps; Long-term Sediment Budget to Assess Harbor Impacts at St. Joseph, MI; Nearshore Placement of Sand and Fine Grain Dredged Material: LRD Experience and Current R&D to Foster RSM Approaches; Engineering Research Needs for the Great Lakes; Managing Great Lakes Watersheds and Non-Point Source Sediment Loads; and National Coastal Mapping Program. Panel presentations continuing Wednesday afternoon will include Regional Monitoring Performance and Techniques, Regional Modeling and Analysis, and RSM Future Direction and R&D Needs. A briefing from the American Shore and Beach Preservation Association will be Wednesday afternoon.

The Board will meet in Executive Session to discuss ongoing initiatives and actions on Thursday morning, July 28.

These meetings are open to the public. Participation by the public is scheduled for 4:30 p.m. on Wednesday, July 27.

The entire meeting and field trip boat tour are open to the public, but since seating capacity is limited, advance notice of attendance is required. Oral participation by public attendees is encouraged during the time scheduled on the agenda; written statements may be submitted prior to the meeting or up to 30 days after the meeting.

Kevin J. Wilson,
Colonel, Corps of Engineers, Executive Secretary.

[FR Doc. 2011-15901 Filed 6-23-11; 8:45 am]

BILLING CODE 3720-58-P